POSTAL REGULATORY COMMISSION

[Docket No. CP2015-24; Order No. 2292]

Postal Rate Changes

AGENCY: Postal Regulatory Commission.

ACTION: Notice.

SUMMARY: The Commission is noticing a recent Postal Service filing announcing its intention to change rates not of general applicability for Inbound Parcel Post (at Universal Postal Union (UPU) Rates). This notice informs the public of the filing, invites public comment, and takes other administrative steps.

DATES: Comments are due: December 23, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

Notice of filing. On December 16, 2014, the Postal Service filed notice pursuant to 39 CFR 3015.5, announcing its intention to change rates not of general applicability for Inbound Parcel Post (at Universal Postal Union (UPU) Rates) effective January 1, 2015.¹ Notice at 1-2. The timing of the filing comports with a requirement that notice of this type of change be submitted at least 15 days before the effective date. See 39 CFR 3015.5.

¹ Notice of the United States Postal Service of Filing Changes in Rates Not of General Applicability for Inbound Parcel Post (at UPU Rates) and Application for Non-Public Treatment, December 16, 2014 (Notice).

II. Contents of Filing

To accompany its Notice, the Postal Service filed the following attachments:

• Attachment 1—An application for non-public treatment of materials filed under seal;

• Attachment 2—A redacted copy of Governors' Decision No. 14-04;

• Attachment 3—A redacted copy of the new rates;

• Attachment 4—A copy of the certification required under 39 CFR 3015.5(c)(2); and

• Attachment 5—Documentation in support of inflation-linked adjustment for inward land rates.

Id. at 2, 3.

The Postal Service filed a redacted version of the sealed financial documents in a public Excel file. Id. The material filed under seal consists of unredacted copies of Governors' Decision 14-04, the new rates, and related financial information. Id. at 2-3.

Management analysis. The Notice contains: (1) Documentation supporting the inflation-linked adjustment as Attachment 5; (2) an update of the Postal Service's advisory delivery information submitted in a timely manner in the UPU's online compendium to justify bonus payments; (3) the date that the UPU advised the United States of the Inward Land Rate and the Calculation for the pertinent period in International Bureau Circular 206 as Attachment 3; (4) the special drawing rights (SDR) conversion rate of 1 SDR to $1.45676 U.S. dollars used for the cost coverage analysis; and (5) the estimated cost coverage for the pertinent year.

III. Commission Action

The Commission establishes Docket No. CP2015-24 for consideration of matters raised by the Notice.

The Commission invites comments on whether the Postal Service's filing is consistent with 39 U.S.C. 3632, or 3633, and 39 CFR part 3015. Comments are due no later than December 23, 2014. The public portions of the filing can be accessed via the Commission's Web site (http://www.prc.gov).

The Commission appoints Pamela A. Thompson to serve as Public Representative in this docket.

IV. Ordering Paragraphs

It is ordered:

1. The Commission establishes Docket No. CP2015-24 for consideration of the matters raised by the Postal Service's Notice.

2. Pursuant to 39 U.S. C. 505, Pamela A. Thompson is appointed to serve as an officer of the Commission to represent the interests of the general public in this proceeding (Public Representative).

3. Comments are due no later than December 23, 2014.

4. The Secretary shall arrange for publication of this order in the Federal Register.

By the Commission.
Shoshana M. Grove,
Secretary.

[FR Doc. 2014-29932 Filed 12-22-14; 8:45 am]

BILLING CODE 7710-FW-P